DEPARTMENT OF THE TREASURY

Termination of Two Collections

AGENCY: Departmental Offices, Department of the Treasury.

ACTION: Notice of termination of reporting requirements; instructions.

SUMMARY: By this notice, the Department of the Treasury is informing the public that it will eliminate the following two forms: (1) Treasury International Capital Form BL-3 (OMB control number 1505-0088), Intermediary's Notification of Foreign Borrowing Denominated in Dollars, after respondents submit their final BL-3 reports as of end-January 2003; and (2) Treasury International Capital Form CM (OMB control number 1505-0023), Dollar Deposit and Certificate of Deposit Claims on Banks Abroad, after respondents submit their final CM reports as of end-January 2003. Upcoming revisions to other Treasury International Capital forms obviate the need to continue these two forms. This notice constitutes legal notification to all United States persons (defined below) who meet the reporting requirements for the two forms.

ADDRESSES: Direct all written comments to Dwight Wolkow, International Portfolio Investment Data Systems, Department of the Treasury, Room 4410-1440NYA, 1500 Pennsylvania Avenue, NW., Washington, DC 20220. In view of possible delays in mail delivery, please also notify Mr. Wolkow by email (dwight.wolkow@do.treas.gov), FAX (202-622-1207) or telephone (202-622-1276).

Definition: A U.S. person is any individual, branch, partnership, associated group, association, estate, trust, corporation, or other organization (whether or not organized under the laws of any State), and any government (including a foreign government, the United States Government, a state, provincial, or local government, and any agency, corporation, financial institution, or other entity or instrumentality thereof, including a government-sponsored agency), who resides in the United States or is subject to the jurisdiction of the United States.

What to Do: Respondents should (a) cease filing new BL-3 and CM reports after submitting their BL-3 and CM reports as of end-January 2003; and (b) maintain their records of BL-3 and CM reports until March 31, 2006. Those requirements are based on respondents' obligations: (i) To respond to inquiries from Federal Reserve Bank staffs about submitted reports (see Instructions for TIC Banking Forms, general instructions section, part L; and Instructions for TIC Nonbanking Forms, general instructions section, part R); and (ii) to maintain records of their BL-3 and CM reports for three years after submitting them to the appropriate Federal Reserve Banks (31 CFR part 128.5).

Questions: Direct any questions to the TIC reports staff of the Federal Reserve Bank(s) to which your BL-3 and CM reports are sent; or to Mr. Wolkow.

Dwight Wolkow,
Administrator, International Portfolio Investment Data Reporting Systems.

[FR Doc. 03-4575 Filed 2-26-03; 8:45 am]

BILLING CODE 4810-25-P